ENVIRONMENTAL PROTECTION AGENCY

40 CFR Part 271

[EPA-R04-RCRA-2024-0451; FRL-12278-01-R4]

Tennessee: Final Authorization of State Hazardous Waste Management Program Revisions

AGENCY: Environmental Protection Agency (EPA).

ACTION: Final action.

SUMMARY: The Environmental Protection Agency (EPA) is taking direct final action on the authorization of changes to Tennessee's hazardous waste program under the Resource Conservation and Recovery Act (RCRA), as amended. These changes were outlined in a December 8, 2023, application to the EPA. We have determined that these changes satisfy all requirements needed for final authorization.

DATES: This authorization is effective on January 21, 2025 without further notice unless the EPA receives adverse comment by December 20, 2024. If the EPA receives adverse comment, we will either publish a timely withdrawal of this direct final action in the Federal Register informing the public that the authorization will not take effect, or we will publish a notification containing a response to comments that either reverses the decision or affirms that the final action will take effect. In the event that the final action is withdrawn, we would address all public comments and make a final decision on authorization in a subsequent final action.

ADDRESSES: Submit your comments, identified by Docket ID No. EPA-R04-RCRA-2024-0451, at https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The EPA encourages electronic submittals and lists all publicly available docket materials electronically at www.regulations.gov. If you are unable to make electronic submittals or require alternative access to docket materials, please notify Robin Billings through the provided contacts in the FOR FURTHER INFORMATION CONTACT section. Please also contact Robin Billings if you need assistance in a language other than English or if you are a person with disabilities who needs a reasonable accommodation at no cost to you.

FOR FURTHER INFORMATION CONTACT: Robin Billings; RCRA Programs and Cleanup Branch; Land, Chemicals and Redevelopment Division; U.S. Environmental Protection Agency; Atlanta Federal Center, 61 Forsyth Street SW, Atlanta, Georgia 30303-8960; telephone number: (404) 562-8515; fax number: (404) 562-9964; email address: billings.robin@epa.gov.

SUPPLEMENTARY INFORMATION:

I. Why is the EPA using a direct final action?

The EPA is publishing this action without a prior proposed rule because we view this as a noncontroversial action and anticipate no adverse comment. This action is a routine program change. However, in the “Proposed Rules” section of this Federal Register, we are publishing a separate document that will serve as the proposed rule allowing the public an opportunity to comment. We will not institute a second comment period on this action. Any parties interested in commenting must do so at this time. For further information about commenting on this action, see the ADDRESSES section of this document.

If the EPA receives adverse comments, we will either withdraw this action by publishing a document in the Federal Register before the action becomes effective, or we will publish a notification containing a response to comments that either reverses the decision or affirms that the final action will take effect. In the event that the final action is withdrawn, the EPA would base any further decision on the authorization of the State's program changes on the proposal mentioned in the previous paragraph and after consideration of all comments received during the comment period. We would address all public comments and make a final decision on authorization in a subsequent final action.

II. Why are revisions to State programs necessary?

States that have received final authorization from the EPA under RCRA section 3006(b), 42 U.S.C. 6926(b), must maintain a hazardous waste program that is equivalent to, consistent with, and no less stringent than the Federal program. As the Federal program changes, States must change their programs and ask the EPA to authorize the changes. Changes to State programs may be necessary when Federal or State statutory or regulatory authority is modified or when certain other changes occur. Most commonly, States must change their programs because of changes to the EPA's regulations in title 40 of the Code of Federal Regulations (CFR), parts 124, 260 through 268, 270, 273, and 279.

New Federal requirements and prohibitions imposed by Federal regulations that the EPA promulgates pursuant to the Hazardous and Solid Waste Amendments of 1984 (HSWA) take effect in authorized states at the same time they take effect in unauthorized States. Thus, the EPA will implement those requirements and prohibitions in Tennessee, including the issuance of new permits implementing those requirements, until the State is granted authorization to do so.

III. What decisions has the EPA made in this action?

Tennessee submitted a complete program revision application (PRA), dated December 8, 2023, seeking authorization of changes to its hazardous waste program corresponding to certain Federal rules promulgated between December 1, 1987, and June 30, 2022 (including HSWA Cluster II ¹ (Checklist ² 44C only) and RCRA Clusters XXVII (Checklist 241 only) and XXX). Additionally, Tennessee included, in its PRA, amendments to provisions that had been excluded from previously authorized checklists in parts of Clusters XVI, XVII, XXIII, XXIV, and XXV. The EPA concludes that Tennessee's application to revise its authorized program meets all of the statutory and regulatory requirements established under RCRA, as set forth in RCRA section 3006(b), 42 U.S.C. 6926(b), and 40 CFR part 271. Therefore, the EPA grants Tennessee final authorization to operate its hazardous waste program with the changes described in the PRA and as outlined below in section VI of this document.

¹ A “Cluster” is a grouping of hazardous waste rules that the EPA promulgates from July 1st of one year to June 30th of the following year.

² A “checklist” is developed by the EPA for each Federal rule amending the RCRA regulations. The checklists document the changes made by each Federal rule and are presented and numbered in chronological order by date of promulgation.

Tennessee has responsibility for permitting treatment, storage, and disposal facilities within its borders and for carrying out the aspects of the RCRA program described in its PRA, subject to the limitations of HSWA, as discussed above.

IV. What is the effect of this authorization decision?

The effect of this decision is that the changes described in Tennessee's PRA as outlined below and in section VI of this document will become part of the authorized State hazardous waste program and will therefore be federally enforceable. Tennessee will continue to have primary enforcement authority and responsibility for its State hazardous waste program. The EPA will maintain its authorities under RCRA sections 3007, 3008, 3013, and 7003, including its authority to:

• Conduct inspections, and require monitoring, tests, analyses, and reports;

• Enforce RCRA requirements, including authorized State program requirements, and suspend or revoke permits; and

• Take enforcement actions regardless of whether the State has taken its own actions.

This action does not impose additional requirements on the regulated community because the regulations for which the EPA is authorizing Tennessee are already effective under State law and are not changed by this action.

V. What has Tennessee previously been authorized for?

Tennessee initially received final authorization on January 22, 1985, effective February 5, 1985 (50 FR 2820), to implement the RCRA hazardous waste management program. The EPA granted authorization for changes to Tennessee 's program on the following dates: June 12, 1987, effective August 11, 1987 (52 FR 22443); June 1, 1992, effective July 31, 1992 (57 FR 23063); May 8, 1995, effective July 7, 1995 (60 FR 22524); August 24, 1995, effective October 23, 1995 (60 FR 43979); May 23, 1996, effective July 22, 1996 (61 FR 25796); January 30, 1998, effective March 31, 1998 (63 FR 4587); September 15, 1999, effective November 15, 1999 (64 FR 49998); October 26, 2000, effective December 26, 2000 (65 FR 64161); December 26, 2001, effective February 25, 2002 (66 FR 66342); April 11, 2003, effective June 10, 2003 (68 FR 17748); March 14, 2005, effective May 13, 2005 (70 FR 12416); May 11, 2006, effective July 10, 2006 (71 FR 27405); October 5, 2012, effective December 4, 2012 (77 FR 60919); March 20, 2015, effective May 19, 2015 (80 FR 14847); and July 13, 2022, effective September 12, 2022 (87 FR 41610).

VI. What changes is the EPA authorizing with this action?

Tennessee submitted a complete PRA, dated December 8, 2023, seeking authorization of changes to its hazardous waste management program in accordance with 40 CFR 271.21. This application included changes associated with Checklists 44C, 241, and 244 from HSWA Cluster II and RCRA Clusters XXVII and XXX. The EPA is authorizing all of these changes.

The PRA also included revisions to Checklists 212, 214, 231, 233B, 233D2, 233E, and 237. Tennessee was previously authorized for these Checklists in the September 12, 2022, Final Authorization (87 FR 41610); however, certain provisions of the Tennessee regulations associated with these Checklists included omissions or errors that required correction. Tennessee has corrected these omissions and errors and has submitted the corrected provisions for authorization. The EPA is authorizing all but two ³ of these revised provisions.

³ The changes to both Rule 0400-12-01.09(8)(a)2(iii) from Checklist 212, and Rule 0400-12-01-.02 (29)(a)1, from Checklist 233E, are not being authorized due to inaccuracies in the state regulatory text. The prior versions of each of these provisions were authorized in the September 12, 2022, Final Authorization (87 FR 41610). Tennessee will correct these inaccuracies in a future rulemaking.

The EPA has determined, subject to receipt of written comments that oppose this action, that Tennessee's hazardous waste program revisions are equivalent to, consistent with, and no less stringent than the Federal program, and therefore satisfy all of the requirements necessary to qualify for final authorization. Therefore, the EPA grants final authorization to Tennessee for the following program changes:

A. Newly Submitted Checklists

Description of Federal requirement | Federal Register date and page | Analogous state authority ¹
Checklist 44C, Corrective Action for Injection Wells | 52 FR 45788, 12/1/1987 | 0400-12-01-.05(1)(b)2(ix) [reserved]; and 0400-12-01-.07(1)(c)1(ii)(III)I and II.
Checklist 241, Management Standards for Hazardous Waste Pharmaceuticals and Amendment to the P075 Listing for Nicotine | 84 FR 5816, 02/22/2019 | 0400-12-01-.02(1)(d)1(i)(II) and (1)(g)3; 0400-12-01-.02(4)(d)3, (4)(d)3 Comment, and (4)(d)5 Table; 0400-12-01-.03(1)(a)2(xii), (1)(a)2(xiii)(I) through (III), (1)(d)3(x), (1)(e)1(v)(IX), and (1)(e)1(v)(X); 0400-12-01-.06(1)(b)2(xi); 0400-12-01-.05(1)(b)2(xiii); 0400-12-01-.09(16); 0400-12-01-.10(1)(g), (1)(g)1, and (4)(a)1(iv) and (v); 0400-12-01-.07(1)(b)4(x); and 0400-12-01-.12(7)(a)1 and (7)(a)4.
Checklist 244, Canada Import Export Recovery and Disposal Code Changes | 86 FR 54381, 10/01/2021 | 0400-12-01-.03(9)(b), (9)(d)2(iii), (9)(d)6(vi), (9)(d)6(vi)(I) and (II), (9)(e)2(ii), (9)(e)6(v), (9)(e)7(ii), and (9)(e)8(ii)(III); 0400-12-01-.06(2)(c)1(iv)(II); and 0400-12-01-.05(2)(c)1(iv)(II).
¹ The Tennessee regulatory citations are from the Tennessee Rules of the Division of Solid Waste Management (Hazardous Waste Program), Chapter 0400-12-01. Citations to Rules .02, .03, .05-.07, .09, and .10 within this Chapter refer to the regulatory text revised as of September 2022. Citations to Rule .12 within this Chapter refer to the regulatory text revised as of April 2022.

B. Revisions to Previously Authorized Checklists

Tennessee was authorized for each of the Checklists in the table below as a part of the Final Authorization effective September 12, 2022 (87 FR 41610), although certain provisions contained omissions or errors that required correction. Tennessee is submitting its revisions to these previously authorized provisions, and the EPA is authorizing them here.

Description of Federal requirement | Federal Register date and page | Analogous state authority ¹
Checklist 212, National Emission Standards for Hazardous Air Pollutants: Final Standards for Hazardous Air Pollutants for Hazardous Waste Combustors (Phase I Final Replacement Standards and Phase II) | 70 FR 59402, 10/12/2005 | 0400-12-01-.06(15)(a)2(i) and (iii); 0400-12-01-.05(15)(a)2(i); 0400-12-01-.09(8)(a)2(i); 0400-12-01-.07(2)(h), (2)(h)1, (2)(h)1(i) through (ix),² and (2)(h)2 (removed); 0400-12-01-.07(5)(b)5(v), (5)(b)8, (5)(b)10(iv)(III), and (5)(b)11(v)(III); 0400-12-01-.07(8)(b)2(iii); 0400-12-01-.07(9)(c)5(x)(I) through (III), (9)(c)5(xi)(I), (9)(c)5(xi)(I) I and II, (9)(c)5(xi)(I) IV, and (9)(c)5(xi)(II), and (9)(c)5(xi)(II) I; 0400-12-01-.07(10)(l)10; 0400-12-01-.07(1)(e) and (1)(j); and 0400-12-01-.07(12)(a)1(i)-(ii), (12)(a)2(i), and (12)(a)3.
Checklist 214, Corrections to Errors in the Code of Federal Regulations | 71 FR 40254, 7/14/2006 | 0400-12-01-.05(14)(b)4(i); ³ and 0400-12-01-.10(3)(f) table 1.
Checklist 231, Hazardous Waste Electronic Manifest System; Final Rule | 79 FR 7518, 2/7/2014 | 0400-12-01-.01(7)(a)1(i)(II).
Checklist 233B, Legitimacy-related provisions, including prohibition of sham recycling, definition of legitimacy, definition of contained | 80 FR 1694, 1/13/2015 | 0400-12-01-.01(5)(d)2 and (5)(d)2(ii).⁴
Checklist 233D2, 2008 DSW exclusions and non-waste determinations, including revisions from 2015 DSW final rule and 2018 DSW final rule | 80 FR 1694, 1/13/2015; 83 FR 24664, 5/30/2018 | 0400-12-01-.01(2)(a) Definition of “Facility”; and 0400-12-01-.02(13)(b)5, (13)(b)6(i), (13)(b)6(ii), (13)(c), (13)(c)2, (13)(c)3, (13)(c)4(iii), (13)(d), (13)(d)1(i), (13)(d)2(ii), and (13)(d)6(viii)(II).⁵
Checklist 233E, Remanufacturing exclusion | 80 FR 1694, 1/13/2015 | 0400-12-01-.02(1)(d)1(xxvii)(VI) II E and (1)(d)1(xxvii)(VI) V; 0400-12-01-.02(10)(d)1 Note and (10)(g) Notes; 0400-12-01-.02(27)(a), (27)(d)14(i)(II),⁶ and (27)(d)14(i)(III); 0400-12-01-.02(28)(a)1; and 0400-12-01-.02(29)(b).
Checklist 237, Hazardous Waste Generator Improvements Rule | 81 FR 85732, 11/28/2016 | 0400-12-01-.03(1)(a)2(i)(II); 0400-12-01-.03(12)(j)4 (removed).⁷
¹ The Tennessee regulatory citations are from the Tennessee Rules of the Division of Solid Waste Management (Hazardous Waste Program), Chapter 0400-12-01. Citations to Rules .01-.03, .05-.07, .09, and .10 within this Chapter refer to the regulatory text revised as of September 2023.
² The subparts of 0400-12-01-.07(2)(h)1 were also renumbered by the State, but the contents of the Part did not change as a result of the renumbering.
³ Rule 0400-12-01.05(14)(b)4(i) was noted in the 2022 Final Authorization to have an incorrect cross-reference to Rule 0400-12-01-.02(3)(d). It has now been corrected to properly refer to Rule 0400-12-01-.02(3)(e).
⁴ In the 2022 Final Authorization, these two provisions were authorized, but it was noted that the parenthetical notes about legitimate recycling that accompanied each provision at that time were unclear and would be removed or clarified by Tennessee in a subsequent rulemaking. Both parenthetical notes have now been removed, and the EPA is re-authorizing both provisions without them.
⁵ Several subsections throughout Paragraph 13 of Rule 0400-12-01-.02 that were noted in the 2022 Final Authorization have been clarified with respect to the management of hazardous secondary materials.
⁶ Tennessee Rule 0400-12-01-.02(27)(d)14(i)(II) was noted in the 2022 Final Authorization to have incorrect cross-references to Paragraphs (30) and (32) of Rule 0400-12-01-.06. They have now been corrected to properly refer to Rules 0400-12-01-.02(27) and (29).
⁷ Tennessee Rule 0400-12-01-.03(12)(j)4 was noted in the 2022 Final Authorization as containing an incorrect waiver that would need to be excluded in a subsequent rulemaking. Tennessee has now properly removed it from its regulations.

VII. Where are the revised State rules different than the Federal rules?

When revised State rules differ from the Federal rules in the RCRA state authorization process, the EPA determines whether the State rules are equivalent to, more stringent than, or broader in scope than the Federal program. Pursuant to RCRA section 3009, 42 U.S.C. 6929, State programs may contain requirements that are more stringent than the Federal regulations. Such more stringent requirements can be federally authorized and, once authorized, become federally enforceable. Although the statute does not prevent States from adopting regulations that are broader in scope than the Federal program, states cannot receive Federal authorization for such regulations, and they are not federally enforceable. There are no State requirements in the program revisions listed in the tables above that are considered to be broader in scope than the Federal requirements. The EPA has determined that certain regulations included in Tennessee's program revisions listed in the first table above are more stringent than the Federal program. These more stringent requirements will become part of the federally enforceable RCRA program in Tennessee when authorized.

Tennessee's program is more stringent than the Federal program at 0400-12-01-.09(16)(c)1(i)(I); 0400-12-01-.09(16)(c)9(i); 0400-12-01-.09(16)(d)4; and 0400-12-01-.09(16)(k)3(ix)(I)—in each case because the Tennessee program requires annual reporting instead of biennial reporting.

It should be noted that States cannot receive authorization for certain Federal regulatory functions involving international shipments (i.e., import and export provisions) such as those associated with the Canada Import Export Recovery and Disposal Code Changes Rule (Checklist 244). Although Tennessee has adopted these rules to maintain its equivalency with the Federal program, it has appropriately maintained the Federal references.

VIII. Who handles permits after the authorization takes effect?

When final authorization takes effect, Tennessee will issue permits for all the provisions for which it is authorized and will administer the permits it issues. The EPA will continue to administer any RCRA hazardous waste permits or portions of permits that the EPA issued prior to the effective date of authorization until they expire or are terminated. The EPA will not issue any new permits or new portions of permits for the provisions listed in the table above after the effective date of the final authorization. The EPA will continue to implement and issue permits for HSWA requirements for which Tennessee is not yet authorized. The EPA has the authority to enforce State-issued permits after the State is authorized.

IX. What is codification and is the EPA codifying Tennessee's hazardous waste program as authorized in this action?

Codification is the process of placing citations and references to the State's statutes and regulations that comprise the State's authorized hazardous waste program into the Code of Federal Regulations. The EPA does this by adding those citations and references to the authorized State rules in 40 CFR part 272. The EPA is not codifying the authorization of Tennessee's revisions at this time. However, the EPA reserves the ability to amend 40 CFR part 272, subpart RR, for the authorization of Tennessee's program changes at a later date.

X. Statutory and Executive Order Reviews

The Office of Management and Budget (OMB) has exempted this action from the requirements of Executive Order 12866 (58 FR 51735, October 4, 1993) and 13563 (76 FR 3821, January 21, 2011). This action authorizes State requirements for the purpose of RCRA section 3006 and imposes no additional requirements beyond those imposed by State law. Therefore, this action is not subject to review by OMB. This action is not an Executive Order 14094 (88 FR 21879, April 11, 2023) regulatory action because actions such as the authorization of Tennessee's revised hazardous waste program under RCRA are exempted under Executive Order 12866. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of Tribal governments, as specified by Executive Order 13175 (65 FR 67249, November 9, 2000). This action will not have substantial direct effects on the States, on the relationship between the National Government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant, and it does not make decisions based on environmental health or safety risks. This action is not subject to Executive Order 13211, “Actions Concerning Regulations That Significantly Affect Energy Supply, Distribution, or Use” (66 FR 28355, May 22, 2001), because it is not a significant regulatory action under Executive Order 12866.

Under RCRA section 3006(b), the EPA grants a State's application for authorization as long as the State meets the criteria required by RCRA. It would thus be inconsistent with applicable law for the EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 18, 1988), by examining the takings implications of this action in accordance with the “Attorney General's Supplemental Guidelines for the Evaluation of Risk and Avoidance of Unanticipated Takings” issued under the Executive order. This action does not impose an information collection burden under the provisions of the Paperwork Reduction Act of 1995 (44 U.S.C. 3501 et seq.). “Burden” is defined at 5 CFR 1320.3(b). Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. Because this action authorizes pre-existing State rules which are at least equivalent to, and no less stringent than existing Federal requirements, and imposes no additional requirements beyond those imposed by State law, and there are no anticipated significant adverse human health or environmental effects, this rule is not subject to Executive Order 12898.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective January 21, 2025.

List of Subjects in 40 CFR Part 271

Environmental protection, Administrative practice and procedure, Confidential business information, Hazardous waste, Hazardous waste transportation, Intergovernmental relations, Penalties, Reporting and recordkeeping requirements.

Authority: This action is issued under the authority of sections 2002(a), 3006, and 7004(b) of the Solid Waste Disposal Act as amended, 42 U.S.C. 6912(a), 6926, and 6974(b).

Dated: November 6, 2024.
Jeaneanne Gettle,
Acting Regional Administrator, Region 4.

[FR Doc. 2024-26922 Filed 11-19-24; 8:45 am]

BILLING CODE 6560-50-P